DEPARTMENT OF THE INTERIOR

National Indian Gaming Commission

Notice of Availability of a Final Environmental Impact Statement and a Final Conformity Determination for the Proposed Federated Indians of the Graton Rancheria Casino and Hotel Project, Sonoma County, CA

AGENCY: National Indian Gaming Commission (NIGC), Interior.

ACTION: Notice of Availability (NOA).

SUMMARY: In accordance with Section 102(2)(C) of the National Environmental Policy Act (NEPA) 42 U.S.C. 4321 et seq., the NIGC, in cooperation with the Federated Indians of the Graton Rancheria (the “Graton Rancheria”), has prepared a Final Environmental Impact Statement (FEIS) for a proposed casino and hotel project/action to be located in Sonoma County, California. The purpose of the proposed project/action is to help address the socio-economic needs of the Graton Rancheria. The FEIS includes an analysis of potential environmental impacts on those resources as a result of implementing each of the alternatives. A Response to Comments document is included within the FEIS which provides agency responses to substantive environmental comments raised during the DEIS comment period. The alternatives considered in detail within the FEIS are: (A) A casino/hotel project on the “Wilfred Site” (the proposed project/action), (B, C) a casino/hotel project on the “Stony Point Site,” (D) a reduced intensity casino/hotel project on the “Stony Point” site, (E) an alternate use project on the “Stony Point” site, (F) a casino/hotel project on the “Lakeville Site,” (G) a no proposed project/action alternative, and (H) a reduced intensity casino/hotel on the “Wilfred Site.” This notice advises the public that the NIGC has filed the FEIS with the U.S. Environmental Protection Agency (EPA).

In accordance with Section 176 of the Clean Air Act 42 U.S.C. 7506, and the EPA general conformity regulations 40 CFR part 93, subpart B, a Final Conformity Determination (FCD) has been prepared for the proposed project. The FCD is contained within Appendix W of the FEIS.

DATES: Pursuant to the Council on Environmental Quality (CEQ) NEPA Regulations (40 CFR 1506.10), the publication of this NOA in the Federal Register initiates a 30-day waiting period for the Federal decision. Thus, a Record of Decision (ROD) on the proposed project/action will be issued no sooner than 30 days after the release of the FEIS.

FOR FURTHER INFORMATION CONTACT: For further information or to request a copy of the FEIS, please contact: Brad Mehaffy, NEPA Compliance Officer, National Indian Gaming Commission, 1441 L Street, NW., Suite 9100, Washington DC 20005, Phone: (202) 632-7003, Ext. 256, Fax: (202) 632-7066, E-mail: graton_eis@nigc.gov.

The FEIS is available for public review at the Rohnert Park—Cotati Regional Library and Santa Rosa Central Library, general information, including directions and office hours is available online at: http://www.sonoma.lib.ca.us/branches/ or by calling (707) 584-9121 for the Rohnert Park—Cotati Regional Library or (707) 545-0831 for the Santa Rosa Central Library. The FEIS can also be viewed at http://www.gratoneis.com.

SUPPLEMENTARY INFORMATION: The proposed federal action is the NIGC's approval of a gaming management contract between the Graton Rancheria and SC Sonoma Management LLC. The approval of the gaming management contract would result in the development of a resort hotel, casino, and supporting facilities. The facility will be managed by SC Sonoma Management LLC on behalf of the Graton Rancheria, pursuant to the terms of a gaming management contract.

The NIGC has afforded other government agencies and the public extensive opportunity to participate in the preparation of this FEIS. The NIGC published a Notice of Intent (NOI) in the Federal Register on February 12, 2004, briefly describing the proposed project/action and announcing the NIGC's intent to prepare an EIS. The CEQ Regulations for implementing NEPA require a process, referred to as “scoping,” for determining the range of environmental issues to be addressed during the environmental review of a proposed project/action (40 CFR 1501.7). The scoping process included an initial determination of environmental issues to be studied and documented in the EIS by soliciting comments from agencies, organizations and individuals. During the scoping process, the NIGC solicited comments from the general public (providing a 50-day comment period and including a public hearing) and offered Cooperating Agency status to both Federal and non-Federal agencies, including the Bureau of Indian Affairs (BIA), the EPA, the U.S. Army Corps of Engineers (USACE), the California Department of Transportation (Caltrans), the U.S. Fish and Wildlife Service (USFWS), the California Department of Fish and Game (CDFG) and the County of Sonoma. An EIS Scoping Report was published in August 2004, which summarized public scoping comments and identified the BIA, USACE, Caltrans, and Sonoma County as cooperating agencies. Due to a change in project alternatives, the NIGC released a supplemental NOI (Federal Register September 29, 2005) and Scoping Report (January 2006).

A NOA for the Draft Environmental Impact Statement (DEIS) was published in the Federal Register on March 9, 2007. The DEIS addressed the issues and concerns summarized within the scoping reports, to the extent required by NEPA. Seven alternatives were evaluated in detail in the DEIS, including development on one of three alternatives sites (Wilfred, Stony Point, and Lakeville) and a no action alternative. The proposed project/action (Alternative A) includes a casino/hotel resort on a site west of Rohnert Park (the Wilfred site). The casino/hotel resort would include restaurants, a hotel, an entertainment venue, gaming space, banquet/meeting space, and a pool and spa. In addition to the casino/hotel facility, the proposed development would also include on-site parking and an on-site tertiary wastewater treatment plant.

Alternative B consists of the development of a casino/hotel resort nearly identical to that proposed under Alternative A, but located on the northwest corner of an adjacent site, slightly further west of Rohnert Park (the Stony Point site). Alternative C also consists of the development of a casino/hotel resort nearly identical to that proposed under Alternative A. However, the Alternative C casino/hotel resort would be located on the northeast corner of the Stony Point site. Alternative D consists of a smaller-scale version of Alternative B. Alternative E consists of a business park development located on the northwest corner of the Stony Point site. Alternative F consists of the development of a casino/hotel resort nearly identical to that proposed under Alternative A but located on a different site in southern Sonoma County near the intersection of State Route 37 and the Lakeville Highway (the Lakeville site). Alternative G is the no project/action alternative, under which the NIGC would not approve the management contract.

The DEIS was available for public comment from March 9, 2007 to June 5, 2007. The DEIS was available for an 88-day review and comment period, 43 days longer than what is required by NEPA, and 28 days longer than what is recommended in the NIGC NEPA Procedures Manual. Two public hearings were held on the Draft EIS, April 4, 2007 at the Spreckles Performing Arts Center, Rohnert Park, CA and April 5, 2007 at the Wells Fargo Performing Arts Center, Santa Rosa, CA.

Eight alternatives are evaluated in detail in the FEIS, including development on one of three alternatives sites (Wilfred, Stony Point, and Lakeville) and a no action alternative. Based on comments received by cooperating agencies and at the request of the Tribe, a full, detailed analysis of an eighth alternative (Alternative H) has been added to the FEIS analysis. Alternative H is a reduced intensity casino alternative with the same components as the reduced intensity Alternative D but located on the Wilfred Site.

The Clean Air Act requires federal agencies to assure that their actions conform to applicable implementation plans for achieving and maintaining the National Ambient Air Quality Standards for criteria air pollutants. The NIGC prepared a FCD for the proposed action/project described above. The FCD is included in Appendix W of the FEIS.

Authority: This notice is published in accordance with Sections 1506.6 of the Council of Environmental Quality Regulations 40 CFR, Parts 1500 through 1508 implementing the procedural requirements of the NEPA of 1969, as amended 42 U.S.C. 4371 et seq. This notice is also published in accordance with 40 CFR 93.155, which provides reporting requirements for conformity determinations.

Dated: February 13, 2009.
Philip N. Hogen,
Chairman.

[FR Doc. E9-4263 Filed 2-26-09; 8:45 am]

BILLING CODE 7565-01-P